NUCLEAR REGULATORY COMMISSION

[Docket No. 50-237]

Exelon Generation Company, LLC; Dresden Nuclear Power Station, Unit 2; Exemption

1.0 Background

The Exelon Generation Company, LLC, (Exelon, or the licensee) is the holder of Facility Operating License No. DPR-19, which authorizes operation of the Dresden Nuclear Power Station, Unit 2. The license provides, among other things, that the facility is subject to all rules, regulations, and orders of the U.S. Nuclear Regulatory Commission (NRC, the Commission) now or hereafter in effect.

The facility consists of a boiling water reactor located in Grundy County, Illinois.

2.0 Request/Action

Title 10 of the Code of Federal Regulations (10 CFR), part 50, section 50.55a(g)(6)(ii)(B), Expedited Examination of Containment, requires that, by September 9, 2001, licensees of all operating nuclear power plants shall implement the inservice examinations for the first period of the first inspection interval specified in ASME Subsection IWE of the 1992 Edition with the 1992 Addenda in conjunction with the modifications specified in 10 CFR 50.55a(b)(2)(ix). The purpose of performing these containment inspections is to ensure the structural integrity of the containment. While some of the inservice examinations can be performed with the plant at power, due to radiological considerations, other examinations must be scheduled during plant outages.

The licensee recently upgraded their inservice examination program by implementing the 1998 Edition of ASME Section XI, Subsection IWE in place of the 1992 Edition. The staff approved this proposal by letter dated September 18, 2000. While the licensee intended to complete the required inservice examinations during the refueling outage of October 1999, the licensee subsequently determined that some of the examinations did not meet either the 1992 or 1998 Edition and, therefore, must be re-performed. Considering that the licensee's next scheduled refueling outage will be in October 2001, the licensee will be unable to complete all inservice examinations required by regulation unless a special outage, for the purpose of performing inservice examinations, is planned prior to September 9, 2001.

In consideration of the above, by letter dated December 8, 2000, and supplemented by letter dated February 2, 2001, the licensee requested a schedular exemption from implementation of inservice examinations of the containment by September 9, 2001, as required by 10 CFR 50.55a(g)(6)(ii)(B). The schedular exemption is requested to extend the implementation date by 90 days (i.e., to December 8, 2001) to allow completion of first period examinations during the next refueling outage, scheduled to begin in October 2001.

3.0 Discussion

Pursuant to 10 CFR 50.12, the Commission may, upon application by any interested person or upon its own initiative, grant exemptions from the requirements of 10 CFR part 50, when (1) the exemptions are authorized by law, will not present an undue risk to public health or safety, and are consistent with the common defense and security; and (2) when special circumstances are present. According to 10 CFR 50.12(a)(2)(iii), special circumstances are present whenever compliance would result in undue hardship or other costs that are significantly in excess of those contemplated when the regulation was adopted. The requested schedular exemption is required to prevent a forced shutdown of the facility for the purpose of conducting inservice examinations prior to September 9, 2001. In addition, according to 10 CFR 50.12(a)(2)(v), special circumstances are also present whenever the exemption would provide only temporary relief from the applicable regulation and the licensee has made good faith efforts to comply with the regulation. The requested exemption is only needed for a maximum of 90 days, to the start of the next scheduled refueling outage. The staff believes that the licensee made good faith efforts to complete the inservice examinations to satisfy the regulations during their last refueling outage of October 1999.

As described in the staff's safety evaluation dated August 31, 2001, the staff finds that: (1) The requested 90-day extension is a relatively short period that would not permit a significant increase in any degradation that has developed since the general visual examination performed during the most recent refueling outage conducted in October 1999, (2) a separate outage for the performance of containment inspections to meet the date of September 9, 2001, would present undue hardship and costs due to lost generation, and (3) an extra shutdown would increase radiological exposure. On this basis, the staff concludes that (1) the exemption requested by the licensee will not present an undue risk to the public health and safety, (2) to meet the date required by the regulation would result in undue hardship or other costs, and (3) the exemption would provide only temporary relief from the applicable regulation. Therefore, the exemption is authorized pursuant to 10 CFR 50.12(a).

4.0 Conclusion

Accordingly, the Commission has determined that, pursuant to 10 CFR 50.12(a), the exemption is authorized by law, will not endanger life or property or common defense and security, and is, otherwise, in the public interest. Also, special circumstances are present. Therefore, the Commission hereby grants Exelon Nuclear an exemption from the requirements of 10 CFR 50.55a(g)(6)(ii)(B) for Dresden Nuclear Power Station, Unit 2.

Pursuant to 10 CFR 51.32, the Commission has determined that the granting of this exemption will not have a significant effect on the quality of the human environment (66 FR 45876).

This exemption is effective upon issuance.

Dated at Rockville, Maryland, this 31st day of August 2001.
For the Nuclear Regulatory Commission.
John A. Zwolinski,
Director, Division of Licensing Project Management, Office of Nuclear Reactor Regulation.

[FR Doc. 01-22624 Filed 9-7-01; 8:45 am]

BILLING CODE 7590-01-P